DEPARTMENT OF LABOR

Employment and Training Administration

20 CFR Part 641

RIN 1205-AB60

Senior Community Service Employment Program; Notice of Proposed Rulemaking, Additional Indicator on Volunteer Work; Correction

AGENCY: Employment and Training Administration, Labor.

ACTION: Proposed rule; correction.

SUMMARY: This document corrects an expiration date cited in the Notice of Proposed Rulemaking (NPRM) of the Senior Community Service Employment Program (SCSEP), Additional Indicator on Volunteer Work that was published on November 23, 2010. The NPRM updates the SCSEP regulations to add an indicator to measure the number of exiting participants who enter volunteer work. The relevant Office of Management and Budget (OMB) Control Number for SCSEP's approved information collection is 1205-0040. The NPRM stated that the expiration date for 1205-0040 was October 31, 2010. However, that date is incorrect. The information collection is now pending with OMB, as the Department has requested a 3-year extension on the expiration of the approval date for it. Therefore 1205-0040 remains current on a month-by-month basis until OMB acts on the current information collection extension request. For more information on this request, see http://www.reginfo.gov.

DATES: This correction is effective December 17, 2010.

FOR FURTHER INFORMATION CONTACT: For information on this correction, contact Thomas M. Dowd, Administrator, Office of Policy Development and Research, Employment and Training Administration, U.S. Department of Labor, 200 Constitution Avenue, NW., Room N-5641, Washington, DC 20210. Telephone: (202) 693-3700 (this is not a toll-free number). Individuals with hearing or speech impairments may access the telephone via TTY by calling the toll-free Federal Information Relay Service at 1-800-877-8339.

SUPPLEMENTARY INFORMATION:

Correction

In proposed rule FR Doc. 2010-29424 (75 FR 71514), beginning on page 71514 in the issue of November 23, 2010, make the following correction in the SUPPLEMENTARY INFORMATION section. On page 71517, in the 2nd column, in the 8th line, delete the sentence: “The approval expires October 31, 2010.” Replace that sentence with “The approval for 1205-0040 remains current on a month-by-month basis until OMB acts on the currently pending information collection extension request. For more information on this request, see http://www.reginfo.gov.”

Signed in Washington, DC, this 13th day of December 2010.
Jane Oates,
Assistant Secretary, Employment and Training Administration, Labor.

[FR Doc. 2010-31680 Filed 12-16-10; 8:45 am]

BILLING CODE 4510-FN-P